DEPARTMENT OF THE INTERIOR

Bureau of Land Management

[WY-060-1320-EL, WYW155132]

Notice of Availability (NOA) of the Eagle Butte West Coal Lease-by-Application Final Environmental Impact Statement (FEIS), Wyoming

AGENCY: Bureau of Land Management, Interior.

ACTION: Notice of availability (NOA) of a final environmental impact statement. (FEIS) for coal lease by application (LBA) WYW155132 in the decertified Powder River Federal Coal Production Region, Wyoming.

SUMMARY: Under the provisions of the National Environmental Policy Act (NEPA), the Bureau of Land Management (BLM) announces the availability of the Eagle Butte West Coal Lease Application FEIS. The tract is being considered for sale as a result of a coal lease application received from the operator of the adjacent Eagle Butte Mine in Campbell County, Wyoming.

DATES: The FEIS will be available for a 30 calendar-day review period effective the date that the Environmental Protection Agency (EPA) publishes their NOA of the FEIS in the Federal Register.

ADDRESSES: The FEIS is available on the internet at http://www.blm.gov/wy/st/en/info/NEPA/cfodocs/Eagle Butte West.html. Copies are available at the following BLM offices:

• BLM Wyoming State Office, 5353 Yellowstone Road, Cheyenne, Wyoming 82009.

• BLM Casper Field Office, 2987 Prospector Drive, Casper, Wyoming 82604.

Written comments may be submitted to: Bureau of Land Management, Casper Field Office, Attn: Nancy Doelger at the address listed above. The public may submit comments electronically to the attention of Nancy Doelger at casper_wymail@blm.gov or fax comments to (307) 261-7587. Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Nancy Doelger or Mike Karbs at the BLM Casper Field Office address above or telephone (307) 361-7600.

SUPPLEMENTARY INFORMATION: The FEIS analyzes and discloses to the public direct, indirect, and cumulative environmental impacts of issuing a Federal coal lease in the Wyoming portion of the Powder River Basin. The BLM is considering a coal lease issuance as a result of a December 28, 2001, application submitted by RAG Coal West, Inc. (RAG) to lease Federal coal near the Eagle Butte Mine, approximately 3 miles north of Gillette, Wyoming. RAG sold the Eagle Butte Mine to Foundation Coal West, Inc. in August 2004.

The applicant proposes to lease the tract as a maintenance tract to extend the life of their existing mining operations at the Eagle Butte Mine under the provisions of the Leasing on Application regulations at 43 CFR 3425. This tract, case number WYW155132, is referred to as the Eagle Butte West Coal Tract.

The following lands in Campbell County, Wyoming are included in the tract as applied for:

T. 51 N., R. 72 W., 6th P.M., Wyoming.

Section 19: lots 13, 14, 19, and 20;

Section 20: lots 10 (S½), 11 (S½), and 12 through 15;

Section 29: lots 1 (W½), 2 through 7, 8 (W½ and SE¼), and 9 through 16;

Section 30: lots 5, 6, 11 through 14, 19 and 20.

Containing 1,397.64 acres more or less.

Foundation estimates that approximately 238 million tons of Federal coal are included in the tract as applied for.

The Office of Surface Mining Reclamation and Enforcement (OSM), the Land Quality and Air Quality Divisions of the Wyoming Department of Environmental Quality (WDEQ), the Wyoming Department of Transportation (WDOT), the Wyoming State Planning Office (WSPO), and the Campbell County Board of Commissioners are cooperating agencies in the preparation of the FEIS. If the tract is leased as a maintenance tract, the new lease will be incorporated into the existing mining and reclamation plan for the adjacent mine. The Secretary of the Interior (Secretary) must approve the revision to the Mineral Leasing Act (MLA) mining plan before the Federal coal can be mined. If the tract is leased, OSM is the Federal agency that would be responsible for recommending approval, approval with conditions, or disapproval of the revised MLA mining plan to the Office of the Secretary. WDEQ has entered into a cooperative agreement with the Secretary to regulate surface coal mining operations on Federal and non-Federal lands within the State of Wyoming. WSPO coordinates planning within state agencies and facilitates collaboration among the agencies, the Federal government, other states, the private sector, and the general public.

On May 2, 2005, the BLM published a Notice of Intent (NOI) to prepare an EIS for the Eagle Butte West coal lease application in the Federal Register. A notice announcing the availability of the Draft EIS was published in the Federal Register by the EPA on October 20, 2006. A 60-day comment period on the Draft EIS commenced with publication of the EPA's notice of availability and ended on December 19, 2006. The BLM published a Notice of Availability and Notice of Public Hearing in the Federal Register on October 20, 2006. The BLM's Federal Register notice announced the date and time of a public hearing, which was held on November 14, 2006, in Gillette, Wyoming. The purpose of the hearing was to solicit comments on the DEIS, fair market value, and the maximum economic recovery of the Federal coal. During the DEIS comment period, the BLM received eight written comments, which are included, with BLM's responses, in an appendix to the FEIS.

The FEIS analyzes leasing the above-described tract as applied for as a separate Proposed Action. Under this alternative, a competitive sale would be held and a lease issued for Federal coal in the tract as it was applied for. As part of the coal leasing process, the BLM identified a different tract configuration that would potentially avoid bypassing coal or prompt competitive interest in the unleased Federal coal in this area. The tract configuration that the BLM has identified is described and analyzed as a separate alternative in the FEIS. Under this alternative, a competitive sale would be held and a lease issued for Federal coal lands included in a tract modified by the BLM. The FEIS also analyzes the alternative of rejecting the application to lease Federal coal as the No Action Alternative. The Proposed Action and Alternatives being considered in the FEIS are in conformance with the “Approved Resource Management Plan for Public Lands Administered by the Bureau of Land Management Buffalo Field Office.” (April 2001).

A Record of Decision (ROD) will be prepared after the close of the 30-day review period for the FEIS. Comments received on the FEIS will be considered during preparation of the ROD.

Robert A. Bennett,
State Director.

[FR Doc. E7-17332 Filed 8-30-07; 8:45 am]

BILLING CODE 4310-$$-P